DEPARTMENT OF COMMERCE

International Trade Administration

[A-570-601]

Tapered Roller Bearings and Parts Thereof, Finished and Unfinished, From the People's Republic of China: Continuation of the Antidumping Duty Order

AGENCY: Enforcement and Compliance, International Trade Administration, Department of Commerce.

SUMMARY: As a result of the determinations by the U.S. Department of Commerce (Commerce) and the U.S. International Trade Commission (ITC) that revocation of the antidumping duty (AD) order on tapered roller bearings (TRBs) from the People's Republic of China (China) would be likely to lead to continuation or recurrence of dumping and material injury to an industry in the United States, Commerce is publishing a notice of continuation of this AD order.

DATES: Applicable March 14, 2024.

FOR FURTHER INFORMATION CONTACT: Genevieve Coen or Benjamin Nathan, AD/CVD Operations, Office II, Enforcement and Compliance, International Trade Administration, U.S. Department of Commerce, 1401 Constitution Avenue NW, Washington, DC 20230; telephone: (202) 482-3251 or (202) 482-3834, respectively.

SUPPLEMENTARY INFORMATION:

Background

On June 15, 1987, Commerce published in the Federal Register the AD order on TRBs from China.¹ On September 1, 2023, the ITC instituted ² and Commerce initiated the fifth sunset review of the Order, pursuant to section 751(c) of the Tariff Act of 1930, as amended (the Act). As a result of its review, Commerce determined that revocation of the Order would likely lead to the continuation or recurrence of dumping, and, therefore, notified the ITC of the magnitude of the margins of dumping likely to prevail should the Order be revoked.³

¹ See Antidumping Duty Order; Tapered Roller Bearings and Parts Thereof, Finished or Unfinished, from the People's Republic of China, 52 FR 22667 (June 15, 1987), as amended by Tapered Roller Bearings from the People's Republic of China; Amendment to Final Determination of Sale at Less Than Fair Value and Antidumping Duty Order in Accordance with Decision Upon Remand, 55 FR 6669 (February 26, 1990) (Order).

² See Tapered Roller Bearings from China; Institution of a Five-Year Review, 88 FR 60489 (September 1, 2023).

³ See Tapered Roller Bearings and Parts Thereof, Finished and Unfinished, from the People's Republic of China: Final Results of the Expedited Fifth Sunset Review of Antidumping Duty Order, 88 FR 86880 (December 15, 2023), and accompanying Issues and Decision Memorandum.

On March 14, 2024, the ITC published its determination, pursuant to sections 751(c) and 752(a) of the Act, that revocation of the Order would likely lead to continuation or recurrence of material injury to an industry in the United States within a reasonably foreseeable time.⁴

⁴ See Tapered Roller Bearings from China, 89 FR 18668 (March 14, 2024) (ITC Final Determination).

Scope of the Order

The products covered by the Order are tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) subheadings 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115,⁵ and 8708.99.8180.⁶ Although the HTSUS subheadings are provided for convenience and customs purposes, the written description of the scope of the Order is dispositive.⁷

⁵ See Modifications to the Harmonized Tariff Schedule of the United States Under Section 1206 of the Omnibus Trade and Competitiveness Act of 1988, USITC Publication 3898 (December 2006), found at https://www.usitc.gov. Effective January 1, 2007, the HTSUS subheading 8708.99.8015 is renumbered as 8708.99.8115.

⁶ Id.; effective January 1, 2007, the HTSUS subheading 8708.99.8080 is renumbered as 8708.99.8180.

⁷ Subsequent to the issuance of the Order, Commerce has issued numerous scope rulings. See Memoranda, “Final Scope Ruling on Blackstone OTR LLC and OTR Wheel Engineering, Inc.'s Wheel Hub Assemblies and TRBs,” dated February 7, 2011 (finding Blackstone OTR LLC and OTR Wheel Engineering, Inc.'s wheel hub assemblies are within the scope of the Order); “Final Scope Ruling on New Trend Engineering Ltd.'s Wheel Hub Assemblies,” dated April 18, 2011 (finding New Trend Engineering Limited's splined and non-splined wheel hub assemblies without antilock braking system (ABS) elements are included in the scope of the Order and its wheel hub assemblies with ABS elements are also included in the scope of the Order); “Final Scope Determination on Bosda's Wheel Hub Assemblies,” dated June 14, 2011 (finding Bosda International (USA) LLC's wheel hub assemblies are within the scope of the Order); and “Final Scope Determination on DF Machinery's Agricultural Hub Units,” dated August 3, 2011 (finding DF Machinery International, Inc.'s agricultural hub units are included in the scope of the Order).

Continuation of the Order

As a result of the determinations by Commerce and the ITC that revocation of the Order would likely lead to continuation or recurrence of dumping and material injury to an industry in the United States, pursuant to section 751(d)(2) of the Act, Commerce hereby orders the continuation of the Order. U.S. Customs and Border Protection will continue to collect AD cash deposits at the rates in effect at the time of entry for all imports of subject merchandise.

The effective date of the continuation of the Order will be March 14, 2024.⁸ Pursuant to section 751(c)(2) of the Act and 19 CFR 351.218(c)(2), Commerce intends to initiate the next five-year reviews of the Order not later than 30 days prior to fifth anniversary of the date of the last determination by the ITC.

⁸ See ITC Final Determination.

Administrative Protective Order (APO)

This notice also serves as a final reminder to parties subject to an APO of their responsibility concerning the return or destruction of proprietary information disclosed under APO in accordance with 19 CFR 351.305(a)(3), which continues to govern business proprietary information in this segment of the proceedings. Timely written notification of the return or destruction of APO materials, or conversion to judicial protective order, is hereby requested. Failure to comply with the regulations and terms of an APO is a violation which is subject to sanction.

Notification to Interested Parties

This five-year (sunset) review and this notice are in accordance with sections 751(c) and 751(d)(2) of the Act and published in accordance with section 777(i) of the Act and 19 CFR 351.218(f)(4).

Dated: March 15, 2024.
Ryan Majerus,
Deputy Assistant Secretary for Policy and Negotiations, performing the non-exclusive functions and duties of the Assistant Secretary for Enforcement and Compliance.

[FR Doc. 2024-05938 Filed 3-20-24; 8:45 am]

BILLING CODE 3510-DS-P